ENVIRONMENTAL PROTECTION AGENCY

40 CFR Part 52

[CA 250-0331a; FRL-7165-4]

Revisions to the California State Implementation Plan, Lake County Air Quality Management District

AGENCY: Environmental Protection Agency (EPA).

ACTION: Direct final rule.

SUMMARY: EPA is taking direct final action to approve a revision to the Lake County Air Quality Management District (LCAQMD) portion of the California State Implementation Plan (SIP). This revision concerns the emission of particulate matter (PM-10) from open fires and prescribed burning. We are approving local rules that regulate these emission sources under the Clean Air Act as amended in 1990 (CAA or the Act).

DATES: This rule is effective on August 13, 2002 without further notice, unless EPA receives adverse comments by July 15, 2002. If we receive such comments, we will publish a timely withdrawal in the Federal Register to notify the public that this rule will not take effect.

ADDRESSES: Mail comments to Andy Steckel, Rulemaking Office Chief (AIR-4), U.S. Environmental Protection Agency, Region IX, 75 Hawthorne Street, San Francisco, CA 94105.

You can inspect copies of the submitted rule revisions and EPA's technical support document (TSD) at our Region IX office during normal business hours. You may also see copies of the submitted rule revisions and TSD at the following locations:

Environmental Protection Agency, Air Docket (6102), Ariel Rios Building, 1200 Pennsylvania Avenue, NW., Washington DC 20460.

California Air Resources Board, Stationary Source Division, Rule Evaluation Section, 1001 “I” Street, Sacramento, CA 95814.

Lake County Air Quality Management District, 885 Lakeport Boulevard, Lakeport, CA 95453.

FOR FURTHER INFORMATION CONTACT: Al Petersen, Rulemaking Office (AIR-4), U.S. Environmental Protection Agency, Region IX; (415) 947-4118.

SUPPLEMENTARY INFORMATION: Throughout this document, “we,” “us” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. Public comment and final action

III. Background Information

A. Why were these rules submitted?

IV. Administrative Requirements

I. The State's Submittal

A. What Rules Did the State Submit?

Table 1 lists the rules we are approving with the date that they were adopted by the local air agency and submitted by the California Air Resources Board (CARB).

Table 1.—Submitted Rules
Local agency | Section No. [Rule No.] | Rule title | Adopted | Submitted
LCAQMD | 203 | Agricultural Burning | 06/19/01 | 10/30/01
LCAQMD | 204.5 | Air Quality | 06/19/01 | 10/30/01
LCAQMD | 208.3 | Burn Plan or Smoke Management Plan | 06/19/01 | 10/30/01
LCAQMD | 208.8 | Burn Day or Permissive Burn Day | 06/19/01 | 10/30/01
LCAQMD | 226.4 | Fire Protection Agency | 06/19/01 | 10/30/01
LCAQMD | 226.5 | Fire Season—Burn Ban | 06/19/01 | 10/30/01
LCAQMD | 240.8 | No Burn Day | 06/19/01 | 10/30/01
LCAQMD | 246 | Particulate Matter | 06/19/01 | 10/30/01
LCAQMD | 248.3 | Pre-Fire Fuel Treatment | 06/19/01 | 10/30/01
LCAQMD | 248.5 | Prescribed Burning | 06/19/01 | 10/30/01
LCAQMD | 249.5 | Range Improvement Burning | 06/19/01 | 10/30/01
LCAQMD | 251.7 | Smoke Sensitive Areas | 06/19/01 | 10/30/01
LCAQMD | 270 | Wildland Vegetation Management Burning | 06/19/01 | 10/30/01
LCAQMD | 431 | Non-Agricultural Burning | 06/19/01 | 10/30/01
LCAQMD | 431.5 | [Non-Agricultural Open Burning] | 06/19/01 | 10/30/01
LCAQMD | 433 | [Single and Two-Family Dwellings] | 06/19/01 | 10/30/01
LCAQMD | 434 | [Levee, Reservoir, and Ditch Maintenance] | 06/19/01 | 10/30/01
LCAQMD | 1000 | Agricultural and Prescribed Burning | 06/19/01 | 10/30/01
LCAQMD | 1001 | [Agricultural Burning Permit] | 06/19/01 | 10/30/01
LCAQMD | 1003 | Special No-Burn Day Permit | 06/19/01 | 10/30/01
LCAQMD | 1105 | Burning Hours | 06/19/01 | 10/30/01
LCAQMD | 1107 | Agricultural Burning During Fire Season | 06/19/01 | 10/30/01
LCAQMD | 1130 | Open Burning in Agricultural Operations in the Growing of Crops or Raising of Animals | 06/19/01 | 10/30/01
LCAQMD | 1140 | Range Improvement Burning | 06/19/01 | 10/30/01
LCAQMD | 1145 | Forest Management Burning | 06/19/01 | 10/30/01
LCAQMD | 1150 | Burning of Standing Tule | 06/19/01 | 10/30/01
LCAQMD | 1160 | Prescribed Burning, Habitat Improvement Burning, Wildland Vegetation Burning and Forest Management Burning | 06/19/01 | 10/30/01
LCAQMD | 1170 | Wood Waste Burning | 06/19/01 | 10/30/01

On January 18, 2002, this submittal was found to meet the completeness criteria in 40 CFR Part 51 Appendix V, which must be met before formal EPA review.

B. Are There Other Versions of These Rules?

We approved a version of Sections 203, 246, 431, 1000, 1001, 1140 (as SIP Section 1100), 1145 (as SIP Section 1200), and 1130 (as SIP Section 1300) into the SIP on August 4, 1978 (43 FR 34463). We approved a version of Section 434 into the SIP on October 23, 1989 (54 FR 43173). We approved a version of Sections 248.5 and 270 into the SIP on May 18, 1999 (64 FR 26876). We approved a version of Sections 226.5, 431.5, 433, and 1160 (as SIP Section 1150) into the SIP on April 21, 2000 (65 FR 21347).

The LCAQMD adopted Section 1003 on June 13, 1989 and CARB submitted it to us on March 26, 1990. While we can act on only the most recently submitted version, we have reviewed materials provided with this previous submittal.

C. What Is the Purpose of the Submitted Rule Revisions?

The purpose of the submitted rule revisions is to improve the SIP and make the rules consistent with California Smoke Management Guidelines.

II. EPA's Evaluation and Action

A. How Is EPA Evaluating the Rules?

Generally, SIP rules must be enforceable (see section 110(a) of the CAA) and must not relax existing requirements (see sections 110(l) and 193). BACM/BACT and RACM/RACT are not required for PM-10 attainment areas (see section 189(a) and 189(b)). LCAQMD is a PM-10 attainment area.

The following guidance documents were used for reference:

• Requirements for Preparation, Adoption, and Submittal of Implementation Plans, U.S. EPA, 40 CFR Part 51.

• General Preamble Appendix C3—Prescribed Burning Control Measures (57 FR 18072, April 28, 1992).

• General Preamble for the Implementation of Title I of the Clean Air Act Amendments of 1990, 57 FR 13498, 13540 (April 16, 1992).

• Addendum to the General Preamble for the Implementation of Title I of the Clean Air Act Amendments of 1990, 59 FR 41998 (August 16, 1994).

• PM-10 Guideline Document, EPA-452/R-93-008.

B. Do the Rules Meet the Evaluation Criteria?

We believe the rules are consistent with the relevant policy and guidance regarding enforceability and SIP relaxations. The TSD has more information on our evaluation.

C. Public Comment and Final Action

As authorized in section 110(k)(3) of the CAA, EPA is fully approving the submitted rules because we believe they fulfill all relevant requirements. We do not think anyone will object to this, so we are finalizing the approval without proposing it in advance. However, in the Proposed Rules section of this Federal Register, we are simultaneously proposing approval of the same submitted rules. If we receive adverse comments by July 15, 2002, we will publish a timely withdrawal in the Federal Register to notify the public that the direct final approval will not take effect and we will address the comments in a subsequent final action based on the proposal. If we do not receive timely adverse comments, the direct final approval will be effective without further notice on August 13, 2002. This will incorporate these rules into the federally-enforceable SIP.

Please note that if EPA receives adverse comment on an amendment, paragraph, or section of this direct final rule and if that provision may be severed from the remainder of the rule, EPA may adopt as final those provisions of the rule that are not the subject of an adverse comment.

III. Background Information

A. Why Was This Rule Submitted?

PM-10 harms human health and the environment. Section 110(a) of the CAA requires states to submit regulations that control PM-10 emissions. Table 2 lists some of the national milestones leading to the submittal of local agency PM-10 rules.

Table 2.—PM-10 Nonattainment Milestones
Date | Event
March 3, 1978 | EPA promulgated a list of total suspended particulate (TSP) nonattainment areas under the Clean Air Act, as amended in 1977. 43 FR 8964; 40 CFR 81.305.
July 1, 1987 | EPA replaced the TSP standards with new PM standards applying only up to 10 microns in diameter (PM-10). 52 FR 24672.
November 15, 1990 | Clean Air Act Amendments of 1990 were enacted, Pub. L. 101-549, 104 Stat. 2399, codified at 42 U.S.C. 7401-7671q.
November 15, 1990 | PM-10 areas meeting the qualifications of section 107(d)(4)(B) of the CAA were designated nonattainment by operation of law and classified as moderate pursuant to section 188(a). States are required by section 110(a) to submit rules regulating PM-10 emissions in order to achieve the attainment dates specified in section 188(c).

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by August 13, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: March 14, 2002.
Laura Yoshii,
Acting Regional Administrator, Region IX.

Part 52, chapter I, title 40 of the Code of Federal Regulations is amended as follows:

PART 52—[AMENDED]

1. The authority citation for Part 52 continues to read as follows:

Authority: 42 U.S.C. 7401 et seq.

Subpart F—California

2. Section 52.220 is amended by adding paragraph (c)(288)(i)(B) to read as follows:

§ 52.220 Identification of plan.

* * * * *

(c) * * *

(288) * * *

(i) * * *

(B) Lake County Air Quality Management District.

(1) Sections [Rules] 203, 204.5, 208.3, 208.8, 226.4, 226.5, 240.8, 246, 248.3, 248.5, 249.5, 251.7, 270, 431, 431.5, 433, 434, 1000, 1001, 1003, 1105, 1107, 1130, 1140, 1145, 1150, 1160, and 1170, adopted on June 19, 2001.

* * * * *

[FR Doc. 02-14512 Filed 6-13-02; 8:45 am]

BILLING CODE 6560-50-P